DEPARTMENT OF COMMERCE

National Oceanic and Atmospheric Administration

50 CFR Part 648

[Docket No. 011109274-1301-02; I.D. 072202B]

Fisheries of the Northeastern United States; Summer Flounder, Scup, and Black Sea Bass Fisheries; Adjustment to the 2002 Scup Winter II Commercial Quota

AGENCY: National Marine Fisheries Service (NMFS), National Oceanic and Atmospheric Administration (NOAA), Commerce.

ACTION: Scup Winter II commercial quota adjustment for 2002.

SUMMARY: NMFS (NOAA Fisheries) adjusts the 2002 Winter II commercial scup quota. This action complies with a provision of the commercial quota management program established by the Fishery Management Plan for the Summer Flounder, Scup, and Black Sea Bass Fisheries (FMP). Scup landings in excess of the quota allocated for the prior year's Winter II quota period (November and December) must be deducted from the Winter II scup quota for the following year. The intent of this action is to continue the rebuilding program described in the FMP's objectives, by taking into account 2001 overages of the scup Winter II quota.

DATES: Effective July 31, 2002, through December 31, 2002.

FOR FURTHER INFORMATION CONTACT: Richard A. Pearson, Fisheries Policy Analyst, (978) 281-9279.

SUPPLEMENTARY INFORMATION:

Background

NOAA Fisheries published a final rule in the Federal Register on December 26, 2001 (66 FR 66348), announcing specifications and adjustments to the 2002 summer flounder, scup, and black sea bass commercial quotas. On February 14, 2002, NOAA Fisheries published a final rule in the Federal Register (67 FR 6877) revising the method by which the commercial quotas for these species are to be adjusted if landings in any fishing year exceed the quota allocated (thus resulting in a quota overage). The FMP originally required that any landings in excess of a commercial quota allocation for a state or period in one year would be deducted from that state's or period's annual quota allocation for the following year. This was problematic because complete landings data for the year were often not available until much later in the next fishing year. As a result, it was frequently necessary for NMFS to publish several subsequent quota adjustments during the next fishing year, as landings information became available. These adjustments complicated the resource management efforts of state marine fisheries agencies, and hampered planning by commercial fishers. The regulatory amendment corrected these deficiencies by establishing a cut-off date of October 31 for landings data to be used in calculating quota overages and making the resultant adjustments to the quotas when developing the specifications for the upcoming fishing year. The regulatory amendment also specified that, by June 30 of the following year, all available landings data for the previous year's Winter II scup quota period (November - December) and the Quarter 4 black sea bass quota period (October - December) would be compiled and compared to the quota allocations for those periods. Any resultant overages would be deducted from the quotas for the current fishing year in July, through notification in the Federal Register. Any further overages identified as a result of late data submitted for any given year's quota periods would be applied to the quota allocations for the next fishing year. Accordingly, this notice is being published to inform the public of overages of the 2001 Winter II scup quota period and to adjust the 2002 Winter II scup quota to account for those overages. There was not an overage of the 2001 Quarter 4 black sea bass quota so an adjustment of the 2002 Quarter 4 quota is not necessary.

The adjustment in this notification is final. Additional data, including late landings reported from either federally permitted dealers or state statistical agencies reporting landings by non-federally permitted dealers, that are received will be added onto available 2002 landings and then used to determine any adjustments to the 2003 quotas during the specification-setting process for the 2003 fishing year.

Scup

The 2001 Winter II scup quota, available 2001 Winter II scup landings, and the resulting overage of the 2001 Winter II scup quota are presented in Table 1. The resulting adjusted 2002 Winter II scup commercial quota is presented in Table 2.

Table 1. Scup Winter II 2001 Landings and Overage
Period | 2001 Quota: Lb | 2001 Quota: Kg¹ | 2001 Landings: Lb | 2001 Landings: Kg¹ | 2001 Overage: Lb | 2001 Overage: Kg¹
Winter II | 708,469 | 321,356 | 777,790 | 352,800 | 69,321 | 31,444
¹ Kilograms are as converted from pounds, and may not necessarily add due to rounding.

Table 2. Scup Winter II Adjusted 2002 Quota
Period | 2002 Initial Quota: Lb | 2002 Initial Quota: Kg¹ | 2002 Adjusted Quota: Lb | 2002 Adjusted Quota: Kg¹
Winter II | 1,248,823 | 566,456 | 1,179,502 | 535,013
¹ Kilograms are as converted from pounds, and may not necessarily add due to rounding.

Classification

This action is required by 50 CFR part 648 and is exempt from review under Executive Order 12866.

Authority: 16 U.S.C. 1801 et seq.

Dated: July 25, 2002.
John H. Dunnigan,
Director, Office of Sustainable Fisheries, National Marine Fisheries Service.

[FR Doc. 02-19363 Filed 7-30-02; 8:45 am]

BILLING CODE 3510-22-S